DEPARTMENT OF HOUSING AND URBAN DEVELOPMENT

[Docket No. FR 4950-FA-09]

Announcement of Funding Awards for Fiscal Year 2005 Alaska Native/Native Hawaiian Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2005 Alaska Native/Native Hawaiian Institutions Assisting Communities Program. The purpose of this document is to announce the names, addresses and the amount awarded to the winners to be used to assist Alaska Native/Native Hawaiian institutions of higher education to expand their role and effectiveness in addressing communities in their localities, consistent with the purpose of Title I of the Housing and Community Development Act of 1974, as amended.

FOR FURTHER INFORMATION CONTACT: Susan Brunson, Office of University Partnerships, U.S. Department of Housing and Urban Development, 451 Seventh Street, SW., Room 8106, Washington, DC 20410, telephone (202) 708-3061, ext. 3852. To provide service for persons who are hearing- or speech-impaired, this number may be reached via TTY by dialing the Federal Information Relay Service on (800) 877-8339 or (202) 708-1455. (Telephone numbers, other than “800” TTY numbers are not toll free.)

SUPPLEMENTARY INFORMATION: The Alaska Native/Native Hawaiian Institutions Assisting Communities Program was approved by Congress under section 107 of the Community Development Block Grant appropriations for the fiscal year 2005, and is administered by the Office of University Partnerships under the Office of the Assistant Secretary for Policy Development and Research. In addition to this program, the Office of University Partnerships administers HUD's ongoing grant programs to institutions of higher education as well as creates initiatives through which colleges and universities can bring their traditional missions of teaching, research, service, and outreach to bear on the pressing local problems in their communities.

The AN/NHIAC program provides funds for a wide range of CDBG-eligible activities including housing rehabilitation and financing, property demolition or acquisition, public facilities, economic development, business entrepreneurship, and fair housing programs.

The Catalog Federal Domestic Assistance number for this program is 14.515.

On March 21, 2005 (FR 70, No 53, 13722), HUD published a Notice of Funding Availability (NOFA) announcing the availability of $3.9 million appropriated in FY 05, plus an additional $267,000 in previously unobligated funds. Each eligible campus was permitted to apply individually for $800,000, the maximum amount that can be awarded for a period of 36 months.

The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2005 Alaska Native/Native Hawaiian Institutions Assisting Communities Program Funding Competition, by Institution, Address and Grant Amount

Region X

1. University of Alaska, Fairbanks/Chukchi Campus, Mr. Lincoln Saito, University of Alaska, Fairbanks/Chukchi Campus, UAF Grants and Contracts Services, PO Box 757880, Fairbanks, AK 99775. Grant: $799,988.

2. University of Alaska, Fairbanks/Bristol Bay Campus, Dr. Deborah McLean, University of Alaska, Fairbanks/Bristol Bay Campus, PO Box 757560, Fairbanks, AK 99775. Grant: $799,437.

3. Illisagvik College, Ms. Karen Stretch, Illisagvik College, PO Box 749, Barrow, AK 99723. Grant: $800,000

Region IX

4. University of Hawaii/West Oahu, Dr. June Aono, University of Hawaii/West Oahu, 2530 Dole State, Sakamaki D-200, Honolulu, HI 96822. Grant: $800,000.

5. University of Hawaii/Maui Community College, Mr. Lui Hokoana, University of Hawaii/Maui Community College, 2530 Dole Street, Sakamaki D-200, Honolulu, HI 96822. Grant: $800,000

Dated: September 22, 2005.
Harold L. Bunce,
Deputy Assistant Secretary for Economic Affairs.

[FR Doc. E5-5466 Filed 10-5-05; 8:45 am]

BILLING CODE 4210-27-P